DEPARTMENT OF THE INTERIOR

Fish and Wildlife Service

50 CFR Part 17

[Docket No. FWS-HQ-ES-2023-0033; FXES1113090FEDR-256-FF09E22000]

RIN 1018-BH98

Endangered and Threatened Wildlife and Plants; Emergency Listing of the Blue Tree Monitor as an Endangered Species

AGENCY: Fish and Wildlife Service, Interior.

ACTION: Temporary rule; emergency action.

SUMMARY: We, the U.S. Fish and Wildlife Service (Service), exercise our authority pursuant to the Endangered Species Act of 1973, as amended (Act), to emergency list the blue tree monitor (Varanus macraei), a lizard species from Indonesia, as an endangered species. Due to overcollection for the international pet trade and deforestation, there is a significant risk to the well-being of the species. We find that the emergency listing is necessary in order to provide the protective measures afforded by the Act to the blue tree monitor. This emergency action (emergency rule) provides Federal protection pursuant to the Act for a period of 240 days. A proposed rule to list the blue tree monitor is published concurrently with this emergency rule in the Proposed Rules section of this issue of the Federal Register.

DATES: This temporary rule is effective December 26, 2024 through August 25, 2025.

ADDRESSES: This temporary rule, the species status assessment report and other materials related to this temporary rule, and the proposed rule published concurrently with this temporary rule are available on the internet at https://www.regulations.gov under Docket No. FWS-HQ-ES-2023-0033.

FOR FURTHER INFORMATION CONTACT: Rachel London, Manager, Branch of Delisting and Foreign Species, Ecological Services Program, U.S. Fish and Wildlife Service, MS: ES, 5275 Leesburg Pike, Falls Church, VA 22041-3803; telephone 703-358-2171. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Previous Federal Actions

On April 15, 2022, we received a petition from the Center for Biological Diversity requesting that the blue tree monitor be listed as an endangered or threatened species and that the petition be considered on an emergency basis. The Endangered Species Act of 1973, as amended (Act; 16 U.S.C. 1531 et seq.), does not provide a process to petition for emergency listing; therefore, we evaluated the petition to determine if it presented substantial scientific or commercial information indicating that the petitioned action may be warranted. On August 17, 2023, we published in the Federal Register (88 FR 55991) a 90-day finding that the petition presented substantial scientific and commercial information indicating that the petitioned action may be warranted.

Supporting Documents

A species status assessment (SSA) team prepared an SSA report, which is currently under peer review, for the blue tree monitor. The SSA team was composed of Service biologists, in consultation with other species experts. The SSA report represents a compilation of the best scientific and commercial data available concerning the status of the species, including the impacts of past, present, and future factors (both negative and beneficial) affecting the species.

In accordance with our joint policy on peer review published in the Federal Register on July 1, 1994 (59 FR 34270), and our August 22, 2016, memorandum updating and clarifying the role of peer review in listing and recovery actions under the Act (https://www.fws.gov/sites/default/files/documents/peer-review-policy-directors-memo-2016-08-22.pdf), we will solicit independent scientific review of the information contained in the blue tree monitor SSA report concurrent with the open comment period identified in the proposed rule that is published concurrently with this emergency action (emergency rule) and found in the Proposed Rules section of this issue of the Federal Register. The SSA report and other materials related to this emergency rule, including the proposed rule, can be found at https://www.regulations.gov under Docket No. FWS-HQ-ES-2023-0033. We note that, because we were already conducting a status review of the species, we had completed an SSA report prior to publishing this emergency listing rule. Therefore, we discretionarily incorporate information from the SSA report here, recognizing emergency listing rules do not require this level of detail and analysis.

Species Information

A thorough review of the taxonomy, life history, and ecology of the blue tree monitor is presented in the SSA report (Service 2024, entire).

The blue tree monitor (Varanus macraei) is a species of monitor lizard that was first described in 2001 (Böhme and Jacobs 2001, entire), and genetic testing confirms it is a distinct species (Ziegler et al. 2007, p. 16) that occupies the V. prasinus species complex (subgenus Hapturosaurus; Bucklitsch et al. 2016, pp. 37-38). The blue tree monitor has sharp claws, a long prehensile tail, and smooth and unkeeled neck scales, and it is distinguished from other tree monitor species by a unique blue spotted pattern throughout its body (Böhme and Jacobs 2001, pp. 7-9; Auliya and Koch 2020, p. 72). Adults average a snout vent length of 31 centimeters (cm) (12.2 inches (in)) and total length of 88 cm (34.6 in) (Arida et al. 2021, p. 115; Del Canto 2013, p. 19; Ziegler et al. 2009, p. 123).

The blue tree monitor is a narrow-ranging endemic (highly local and known to exist only in their place of origin), and is native to the island of Batanta, within the Raja Ampat Islands of Papua, Indonesia (Böhme and Jacobs 2004, p. 214). The species is rarely encountered on Batanta, so there is little detail available on its life-history and habitat requirements (Philipp and Philipp 2007, p. 867; Auliya and Koch 2020, p. 72). The blue tree monitor is diurnal and arboreal (Böhme and Jacobs 2004, p. 214; Del Canto 2013, p. 19; Ziegler et al. 2009, p. 122), primarily feeds on invertebrates (Auliya and Koch 2020, p. 72; Del Canto 2013, p. 20), and occupies low-lying forested habitats with an ambient humidity that ranges from 65 to 100 percent (Del Canto 2013, p. 19; Sprackland 2011, unpaginated).

No quantitative population information exists for the species (Bennett 2015, p. 50), though there is evidence of declines in the wild population on Batanta as a result of overcollection for the pet trade (Arida et al. 2021, pp. 113-114; Del Canto 2013, p. 19). Blue tree monitors are valuable on the international pet market, and collecting and selling them is a source of income for local residents on Batanta (Arida et al. 2021, pp. 112-115). Blue tree monitors have been overcollected to the point that the species is now undetectable or extirpated from multiple localities on eastern Batanta (Del Canto 2013, p. 19; Arida et al. 2021, pp. 112-114), and lizard hunters report they are finding fewer specimens during week-long hunting sessions than they were historically and now must travel to more remote areas of the island to collect the species (Arida et al. 2021, pp. 114-116). Monitor lizards have a high mortality rate along the trade route and in captivity (Natusch and Lyons 2012, p. 2902; Mendyk 2015, p. 3), and many individuals are injured or die before they are exported from Indonesia (Natusch and Lyons 2012, p. 2902). Thus, the number of individuals in trade reported by the Convention on International Trade in Endangered Species of Wild Fauna and Flora (CITES) Trade Database are likely a fraction of those that are taken from the wild.

According to the CITES Trade Database, between 2003 and 2022, a total of 5,502 individual blue tree monitors were exported from Indonesia for commercial purposes (Service 2024, p. 11). The Service's Law Enforcement Management Information System (LEMIS) recorded the importation of 1,584 live blue tree monitors into the United States between March 2004 and August 2024 (Service 2024, p. 11). During this period, the declared value per individual blue tree monitor has nearly doubled, which is likely a reflection of the increasing rarity of the species, and the increasing demand for the species driving further pressure on the species in the wild (Service 2024, p. 9). In 2023, LEMIS recorded the importation of 153 individual blue tree monitors, the highest annual importation on record, and a clear signal that the trade of blue tree monitors is continuing at a likely unsustainable level (Service 2024, p. 11). Because reptile collectors often desire to keep rare and brightly colored species in their collection (Altherr and Lameter 2020, p. 6), the demand for blue tree monitors on the international pet market will likely continue to remain high. Overcollection for the pet trade is known to cause extirpations in newly described reptile species (Stuart et al. 2006, p. 1137). Overcollection represents an immediate threat to the blue tree monitor's viability because unsustainable exploitation will likely lead to the species becoming a rarer and more valuable commodity on the pet market, thus a more appealing target for collection, and may ultimately drive the wild population into an extinction vortex (Janssen and Krishnasamy 2018, pp. 2-3). Furthermore, much of the blue tree monitor's limited habitat has already been lost due to deforestation (Webb 2005, p. 25; Newman and Valentinus 2005, p. 19; Takeuchi 2003, p. 105), and the species' viability is further threatened by a projected increase in extreme weather events resulting from climate change (Kurniadi et al. 2024, p. 160; Christensen et al. 2007, p. 879; Lee et al. 2023, p. 12; Ahmad et al. 2019, p. 2).

After evaluating threats to the species and assessing the cumulative effect of the threats under the Act's section 4(a)(1) factors, we determined that the blue tree monitor population has been reduced across its range, due to the loss of its limited habitat and overcollection for the international pet trade. Because the blue tree monitor exists in a single population that is endemic to a small island that is threatened by historical and current habitat loss, it is at increased risk of extirpation due to stochastic and catastrophic events, leaving the species immediately susceptible to extinction. The blue tree monitor currently maintains insufficient resiliency, redundancy, and representation for its continued existence to be secure. Thus, after assessing the best scientific and commercial data available, we determine that the blue tree monitor is in danger of extinction throughout all of its range.

For further discussion of the blue tree monitor's biological background information and biological status, previous Federal actions concerning the species, our threats analysis for the species, conservation efforts and regulatory mechanisms affecting the species, our determination of the species' status under the Act, and conservation measures available to listed and proposed species under the Act, consult the proposed rule to list the blue tree monitor as an endangered species that is published in this issue of the Federal Register. The information contained in the proposed rule supports, and provides further detail on, the rationale for this temporary rule (emergency action) to list the blue tree monitor as an endangered species under the Act.

Reasons for Emergency Determination

Under section 4(b)(7) of the Act and regulations at 50 CFR 424.20, we may emergency list a species if the threats to the species constitute an emergency posing a significant risk to its wellbeing. An emergency listing will take effect immediately upon publication in the Federal Register, and it expires 240 days following publication in the Federal Register unless, during this 240-day period, we list the species following the normal listing procedures. In accordance with the Act, if at any time after we publish this emergency rule, we determine that substantial evidence does not exist to warrant such a rule, we will withdraw it.

We conclude that emergency listing the blue tree monitor as an endangered species is warranted. In making this determination, we have carefully assessed the best scientific and commercial data available regarding the past, present, and future threats faced by the blue tree monitor. As discussed above, and in the proposed rule published concurrently with this rule, ongoing and recently increasing overcollection for the pet trade, combined with habitat loss, poses a significant and imminent threat to the blue tree monitor, such that continued unsustainable exploitation may soon lead to the extirpation of the species. Significant and possibly irreversible negative impacts to the species may occur before listing could become effective following completion of the usually required rulemaking procedures for listing a species. We, therefore, conclude that the current circumstances constitute an emergency.

By emergency listing the blue tree monitor as an endangered species, the protections of the Act (through sections 7, 9, and 10) and recognition that will immediately become available to the species will increase the likelihood that it can be saved from extinction. Published concurrently in the Proposed Rules section of this issue of the Federal Register (see also Docket No. FWS-HQ-ES-2023-0033 in https://www.regulations.gov), we are proposing to list the blue tree monitor (Varanus macraei) as an endangered species due to the imminent risk of extinction resulting from habitat loss and overcollection for the pet trade. For the reasons discussed in the preamble of that proposed rule, we propose in that document to make this emergency listing permanent.

Available Conservation Measures

The purposes of the Act are to provide a means whereby the ecosystems upon which endangered species and threatened species depend may be conserved, to provide a program for the conservation of such endangered species and threatened species, and to take such steps as may be appropriate to achieve the purposes of the treaties and conventions set forth in the Act. Under the Act, a number of steps are available to advance the conservation of species listed as endangered or threatened species. As explained further below, these conservation measures include: (1) recognition, (2) recovery actions, (3) requirements for Federal protection, (4) financial assistance for conservation programs, and (5) prohibitions against certain activities.

Recognition through listing results in public awareness, as well as in conservation by Federal, State, Tribal, and local agencies, foreign governments, private organizations, and individuals. The Act encourages cooperation with the States and other countries and calls for recovery actions to be carried out for listed species.

Section 7 of the Act is titled, “Interagency Cooperation,” and it mandates all Federal action agencies to use their existing authorities to further the conservation purposes of the Act and to ensure that their actions are not likely to jeopardize the continued existence of listed species or adversely modify critical habitat. Regulations implementing section 7 are codified at 50 CFR part 402.

Section 7(a)(2) states that each Federal action agency shall, in consultation with the Secretary, ensure that any action they authorize, fund, or carry out is not likely to jeopardize the continued existence of a listed species or result in the destruction or adverse modification of designated critical habitat.

A Federal “action” that is subject to the consultation provisions of section 7(a)(2) of the Act is defined in our implementing regulations at 50 CFR 402.02 as all activities or programs of any kind authorized, funded, or carried out, in whole or in part, by Federal agencies in the United States or upon the high seas. With respect to the blue tree monitor, no known actions will require consultation under section 7(a)(2) of the Act. Given the regulatory definition of “action,” which clarifies that it applies to activities or programs “in the United States or upon the high seas,” the blue tree monitor is unlikely to be the subject of section 7 consultations, because the entire life cycle of this species occurs in terrestrial areas outside of the United States and the species is unlikely to be affected by U.S. Federal actions. Additionally, no critical habitat will be designated for this species because, under 50 CFR 424.12(g), we will not designate critical habitat within foreign countries or in other areas outside of the jurisdiction of the United States.

Section 8(a) of the Act (16 U.S.C. 1537(a)) authorizes the provision of limited financial assistance for the development and management of programs that the Secretary of the Interior determines to be necessary or useful for the conservation of endangered or threatened species in foreign countries. Sections 8(b) and 8(c) of the Act (16 U.S.C. 1537(b) and (c)) authorize the Secretary to encourage conservation programs for foreign listed species, and to provide assistance for such programs, in the form of personnel and the training of personnel.

The Act and its implementing regulations set forth a series of general prohibitions and exceptions that apply to endangered wildlife. The prohibitions of section 9(a)(1) of the Act, and the Service's implementing regulations codified at 50 CFR 17.21, make it illegal for any person subject to the jurisdiction of the United States to commit, to attempt to commit, to solicit another to commit, or to cause to be committed any of the following acts with regard to any endangered wildlife: (1) import into, or export from, the United States; (2) take (which includes harass, harm, pursue, hunt, shoot, wound, kill, trap, capture, or collect, or to attempt to engage in any such conduct) within the United States, within the territorial sea of the United States, or on the high seas; (3) possess, sell, deliver, carry, transport, or ship, by any means whatsoever, any such wildlife that has been taken illegally; (4) deliver, receive, carry, transport, or ship in interstate or foreign commerce, by any means whatsoever and in the course of commercial activity; or (5) sell or offer for sale in interstate or foreign commerce. Certain exceptions to these prohibitions apply to employees or agents of the Service, the National Marine Fisheries Service, other Federal land management agencies, and State conservation agencies.

We may issue permits to carry out otherwise prohibited activities involving endangered wildlife under certain circumstances. Regulations governing permits for endangered wildlife are codified at 50 CFR 17.22, and general Service permitting regulations are codified at 50 CFR part 13. With regard to endangered wildlife, a permit may be issued: for scientific purposes, for enhancing the propagation or survival of the species, or for take incidental to otherwise lawful activities. The statute also contains certain exemptions from the prohibitions, which are found in sections 9 and 10 of the Act.

The Service may also register persons subject to the jurisdiction of the United States through its captive-bred wildlife (CBW) program if certain established requirements are met under the CBW regulations (see 50 CFR 17.21(g)). Through a CBW registration, the Service may allow a registrant to conduct certain otherwise prohibited activities under certain circumstances to enhance the propagation or survival of the affected species, including take; export or re-import; delivery, receipt, carriage, transport, or shipment in interstate or foreign commerce in the course of a commercial activity; or sale or offer for sale in interstate or foreign commerce. A CBW registration may authorize interstate purchase and sale only between entities that both hold a registration for the taxon concerned. The CBW program is available for species having a natural geographic distribution not including any part of the United States and other species that the Service Director has determined to be eligible by regulation. The individual specimens must have been born in captivity in the United States.

The provisions in section 9(b)(1) of the Act (16 U.S.C. 1538(b)(1)) provide a limited exemption from certain otherwise prohibited activities regarding wildlife specimens held in captivity or in a controlled environment on the pre-Act date (for species first listed after the enactment of the Endangered Species Act, the pre-Act date is the date of publication in the Federal Register of the final regulation adding such species to the List of Endangered and Threatened Wildlife for the first time), provided that such holding and any subsequent holding or use of the wildlife was not in the course of a commercial activity (commonly referred to as “pre-Act” specimens) (96 Stat. 1426-27 (1982); H.R. Rep. No. 97-835, 97th Cong., 2nd Sess., at 35 (1982) (Conf. Rep.); S. Rep. No. 97-418, 97th Cong., 2nd Sess., at 24-25 (1982)). Specifically, section 9(b)(1) of the Act states that the prohibitions of sections 9(a)(1)(A) and 9(a)(1)(G) shall not apply to any fish or wildlife which was held in captivity or in a controlled environment on (A) December 28, 1973, or (B) the date of the publication in the Federal Register of a final regulation adding such fish or wildlife to any list of species published pursuant to section 4(c) of the Act (as relevant to listed wildlife, the List of Endangered and Threatened Wildlife at 50 CFR 17.11(h)) that such holding and any subsequent holding or use of the fish or wildlife was not in the course of a commercial activity.

Therefore, for pre-Act wildlife, there is a limited exemption from the prohibitions associated with: (1) import into, or export from, the United States of any endangered wildlife, or (2) violation of regulations pertaining to endangered or threatened wildlife. Other prohibitions of section 9—including those at section 9(a)(1)(B)-(F), regarding take of endangered wildlife, possession and other acts with unlawfully taken wildlife, interstate or foreign commerce in endangered wildlife, and sale or offer for sale of endangered wildlife—continue to apply to activities with qualifying endangered pre-Act wildlife specimens. Specimens born after the pre-Act date and specimens taken from the wild after the pre-Act date do not qualify as “pre-Act” wildlife under the text of section 9(b)(1) of the Act. If a person engages in any commercial activity with a “pre-Act” specimen on or after the pre-Act date, the wildlife would immediately cease to qualify as pre-Act wildlife and become subject to the relevant prohibitions, because it has been held or used in the course of a commercial activity.

Additional requirements apply to activities with all blue tree monitors, separate from their listing or proposed listing as endangered species or threatened species. As a CITES-listed species, all international trade of any blue tree monitor by persons subject to the jurisdiction of the United States must also comply with CITES requirements pursuant to section 9, paragraphs (c) and (g), of the Act (16 U.S.C. 1538(c) and (g)) and to 50 CFR part 23. As “fish or wildlife” (16 U.S.C. 1532(8)), blue tree monitor imports and exports must also meet applicable wildlife import/export requirements established under section 9, paragraphs (d), (e), and (f), of the Act (16 U.S.C. 1538(d), (e), and (f)); the Lacey Act Amendments of 1981 (16 U.S.C. 3371 et seq.); and 50 CFR part 14. Questions regarding whether specific activities with blue tree monitor would constitute a violation of section 9 of the Act should be directed to the Service's Division of Management Authority (managementauthority@fws.gov; 703-358-2104).

Required Determinations

National Environmental Policy Act (42 U.S.C. 4321 et seq.)

We have determined that environmental assessments and environmental impact statements, as defined under the authority of the National Environmental Policy Act (42 U.S.C. 4321 et seq.), need not be prepared in connection with listing a species as an endangered or threatened species under the Endangered Species Act. We published a notice outlining our reasons for this determination in the Federal Register on October 25, 1983 (48 FR 49244).

References Cited

A complete list of references cited in this rulemaking is available on the internet at https://www.regulations.gov and upon request from the Branch of Delisting and Foreign Species (see FOR FURTHER INFORMATION CONTACT).

Authors

The primary authors of this rule are the staff members of the Fish and Wildlife Service's Species Assessment Team and the Branch of Delisting and Foreign Species.

List of Subjects in 50 CFR Part 17

Endangered and threatened species, Exports, Imports, Plants, Reporting and recordkeeping requirements, Transportation, Wildlife.

Signing Authority

Martha Williams, Director of the U.S. Fish and Wildlife Service, approved this action on December 3, 2024. Acting Director Steve Guertin approved these packages December 15, 2024. On December 16, 2024, the acting Director authorized the undersigned to sign the document electronically and submit it to the Office of the Federal Register for publication as an official document of the U.S. Fish and Wildlife Service.

Regulation Promulgation

Accordingly, we amend part 17, subchapter B of chapter I, title 50 of the Code of Federal Regulations, as set forth below:

PART 17—ENDANGERED AND THREATENED WILDLIFE AND PLANTS

1. The authority citation for part 17 continues to read as follows:

Authority: 16 U.S.C. 1361-1407; 1531-1544; and 4201-4245, unless otherwise noted.

2. In § 17.11, in paragraph (h), amend the List of Endangered and Threatened Wildlife by adding an entry for “Monitor, blue tree” in alphabetical order under REPTILES to read as follows:

§ 17.11 Endangered and threatened wildlife.

* * * * *

(h) * * *

Common name | Scientific name | Where listed | Status | Listing citations and applicable rules
* * * * * * *
Reptiles
* * * * * * *
Monitor, blue tree | Varanus macraei | Wherever found | E | 89 [Insert Federal Register Page Where Document Begins], 12/26/2024.
* * * * * * *

Madonna Baucum,
Regulations and Policy Chief, Division of Policy, Economics, Risk Management, and Analytics of the Joint Administrative Operations, U.S. Fish and Wildlife Service.

[FR Doc. 2024-30375 Filed 12-23-24; 8:45 am]

BILLING CODE 4333-15-P